DEPARTMENT OF AGRICULTURE

Forest Service

Directive Publication Notice

AGENCY: Forest Service, Agriculture (USDA).

ACTION: Notice.

SUMMARY: The Forest Service (Forest Service or Agency), U.S. Department of Agriculture, provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next three months and notice of final directives issued in the last three months.

DATES: This notice identifies proposed and interim directives that will be published for public comment between April 1, 2023, and June 30, 2023; proposed and interim directives that were previously published for public comment but not yet finalized and issued; and final directives that have been issued since January 1, 2023.

ADDRESSES: Questions or comments may be submitted by email to the contact listed below.

FOR FURTHER INFORMATION CONTACT: JoLynn Anderson, 971-313-1718 or jolynn.anderson@usda.gov. Individuals who use telecommunications devices for the deaf and hard of hearing may call the Federal Relay Service at 800-877-8339 24 hours a day, every day of the year, including holidays. You may register to receive email alerts regarding Forest Service directives at https://www.fs.usda.gov/about-agency/regulations-policies.

SUPPLEMENTARY INFORMATION:

Proposed and Interim Directives

Consistent with 16 U.S.C. 1612(a) and 36 CFR part 216, the Forest Service publishes for public comment Agency directives that formulate standards, criteria, and guidelines applicable to Forest Service programs. Agency procedures for providing public notice and opportunity to comment are specified in Forest Service Handbook (FSH) 1109.12, chapter 30, Providing Public Notice and Opportunity to Comment on Directives.

The following proposed directives are planned for publication for public comment from April 1, 2023, to June 30, 2023:

1. Forest Service Manual (FSM) 2000, National Forest Resource Management, chapter 40—National Forest System Monitoring (previously published as planned for publication for public comment April 8, 2022 (87 FR 20810)).

2. Forest Service Manual (FSM) 2300, Recreation, Wilderness, and Related Resource Management, chapter 55—Climbing Management (previously published as planned for publication for public comment January 28, 2022 (87 FR 4552)).

The following proposed and interim directives have been published for public comment but have not yet been finalized:

1. FSM 2200, Rangeland Management, chapters Zero Code; 2210, Rangeland Management Planning; 2220, Management of Rangelands (Reserved); 2230, Grazing Permit System; 2240, Rangeland Improvements; 2250, Rangeland Management Cooperation; and 2270, Information Management and Reports; FSH 2209.13, Grazing Permit Administration Handbook, chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; and 90, Rangeland Management Decision Making; and FSH 2209.16, Allotment Management Handbook, chapter 10, Allotment Management and Administration.

2. FSM 3800, Landscape Scale Restoration Program.

3. FSH 2409.12, Timber Cruising Handbook, chapters 30, Cruising Systems; 40, Cruise Planning, Data Recording, and Cruise Reporting; 60, Quality Control; and 70, Designating Timber for Cutting.

4. FSH 2409.15, Timber Sale Administration Handbook, chapters 20, Measuring and Accounting for Included Timber; 40, Rates and Payments; and 60, Operations and Other Provisions.

Final Directives That Have Been Issued Since January 1, 2023

Final FSH 2209.13, Grazing Permit Administration Handbook, chapter 80, Grazing Fees (chapter 80), has been issued since January 1, 2023. Chapter 80 is the first of 16 other chapters being updated and yet to be issued to provide greater management flexibility and improve the clarity of policies and procedures guiding responsible and consistent management of grazing on National Forest System lands. Chapters in FSM 2200, Rangeland Management, FSH 2209.13, Grazing Permit Administration Handbook, and FSH 2209.16, Allotment Management Handbook, are being reviewed and will be published later.

Final chapter 80 incorporates the final rule on excess and unauthorized grazing that became effective in August 2022. The final rule allows responsible officials to waive excess and unauthorized grazing fees when certain conditions are met. Final chapter 80 merely incorporates this regulation without revision. In addition, final chapter 80 incorporates current direction regarding excess and unauthorized use penalty rates. In final chapter 80, excess and unauthorized use penalty rates were revised to reflect current market value rather than the market value from the 1960s. The 60-day comment period for the proposed directive began December 18, 2020, closed February 16, 2021, and was extended for 60 days to April 17, 2021. The 5,000 public comments and 2 comments from Tribes on all 17 of the proposed directives can be viewed at https://cara.fs2c.usda.gov/Public/ReadingRoom?project=ORMS-2514. Final chapter 80 was issued March 6, 2023, and can be viewed at https://www.fs.usda.gov/im/directives/fsh/2209.13/wo_2209.13_80-Amend%202023-1.docx.

Dated: April 13, 2023.
JoLynn Anderson,
Branch Chief, Directives, Information Collections and Government Clearance, Office of Policy, National Forest System.

[FR Doc. 2023-08254 Filed 4-18-23; 8:45 am]

BILLING CODE 3411-15-P